NUCLEAR REGULATORY COMMISSION

[Docket No. 50-615; NRC-2024-0146]

Tennessee Valley Authority; Clinch River Nuclear Site, Unit 1; Draft Supplemental Environmental Impact Statement

AGENCY: Nuclear Regulatory Commission.

ACTION: Request for comment.

SUMMARY: The U.S. Nuclear Regulatory Commission (NRC), in cooperation with the U.S. Army Corps of Engineers, is issuing for public comment a draft Supplemental Environmental Impact Statement (SEIS). The draft SEIS is in response to an application submitted by Tennessee Valley Authority (TVA) for a construction permit (CP) to construct one GE Hitachi BWRX-300 reactor at a site in Roane County, Tennessee, designated as Clinch River Nuclear Site, Unit 1 (CRN-1). The draft SEIS evaluates the environmental impacts of the proposed action of issuing a CP that would allow the construction of CRN-1.

DATES: Submit comments by December 22, 2025. Comments received after this date will be considered if it is practical to do so, but the NRC is able to ensure consideration only for comments received on or before this date.

ADDRESSES: You may submit comments by any of the following methods; however, the NRC encourages electronic comment submission through the Federal rulemaking website:

• Federal rulemaking website: Go to https://regulations.gov and search for Docket ID NRC-2024-0146. Address questions about Docket IDs in Regulations.gov to Bridget Curran; telephone: 301-415-1003; email: Bridget.Curran@nrc.gov. For technical questions, contact the individuals listed in the For Further Information Contact section of this document.

• Email: Comments may be submitted to the NRC electronically using the email address: ClinchRiverEnvironmental@nrc.gov.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Madelyn Nagel, Office of Nuclear Material Safety and Safeguards, U.S. Nuclear Regulatory Commission, Washington, DC 20555-0001; telephone: 301-415-0371; email: Madelyn.Nagel@nrc.gov.

SUPPLEMENTARY INFORMATION:

I. Obtaining Information and Submitting Comments

A. Obtaining Information

Please refer to Docket ID NRC-2024-0146 when contacting the NRC about the availability of information for this action. You may obtain publicly available information related to this action by any of the following methods:

• Federal Rulemaking Website: Go to https://regulations.gov and search for Docket ID NRC-2024-0146.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The draft SEIS is available in ADAMS under Accession No. ML25261A214. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

• NRC Public Project Website: The draft SEIS, along with information regarding the CRN Site is available at https://www.nrc.gov/reactors/new-reactors/advanced/who-were-working-with/applicant-projects/clinch-river.html.

B. Submitting Comments

The NRC encourages electronic comment submission through any of the methods outlined in the ADDRESSES section of this document. Please include Docket ID NRC-2024-0146 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

By letters dated April 28, 2025 (ADAMS Accession No. ML25118A209) and May 20, 2025, (ADAMS Package Accession No. ML25140A062), TVA submitted to the NRC pursuant to section 103 of the Atomic Energy Act of 1954, as amended, and part 50 of title 10 of the Code of Federal Regulations (10 CFR), “Domestic Licensing of Production and Utilization Facilities,” an application for a CP that would allow the construction of CRN-1 in Roane County, Tennessee. The proposed facility would house one GE Hitachi BWRX-300 reactor. This submission initiated the proposed Federal action of determining whether to issue the requested CP. A notice of receipt and availability of the CP application was published in the Federal Register (FR) on June 10, 2025 (90 FR 24425). A notice of acceptance for docketing of the complete application and opportunity to request a hearing was published in the FR on July 15, 2025 (90 FR 31709). A notice of intent to prepare a SEIS was published on July 18, 2025 (90 FR 34015).

As set forth in 10 CFR 51.20(b), issuance of a CP to construct a nuclear power reactor is an action that requires an environmental impact statement. This notice is being published in accordance with the National Environmental Policy Act of 1969, as amended (NEPA), and the NRC's regulations implementing NEPA at 10 CFR part 51, “Environmental Protection Regulations for Domestic Licensing and Related Regulatory Functions.” In addition, pursuant to 36 CFR 800.8(c), the NRC is using the process and documentation for the preparation of the draft SEIS to comply with section 106 of the National Historic Preservation Act of 1966, as amended, in lieu of the procedures set forth in 36 CFR 800.3 through 800.6.

III. Discussion

The NRC is issuing the draft SEIS for public comment. The draft SEIS includes the evaluation of the environmental impacts of the proposed action of issuing a CP that would allow the construction of CRN-1. In the draft SEIS, after weighing the environmental, economic, technical, and other benefits against environmental and other costs, and considering reasonable alternatives, the preliminary recommendation is that, unless safety issues mandate otherwise, the NRC issue the requested CP to TVA. This preliminary recommendation is based on: (1) the CP application environmental report; (2) consultation with Federal, State, Tribal, and local agencies; (3) the review team's confirmatory review; and (4) the assessments summarized in the draft SEIS.

Dated: November 5, 2025.
For the Nuclear Regulatory Commission.
Jacob Zimmerman,
Acting Director, Division of Rulemaking, Environmental, and Financial Support, Office of Nuclear Material Safety, and Safeguards.

[FR Doc. 2025-19809 Filed 11-6-25; 8:45 am]

BILLING CODE 7590-01-P